FEDERAL COMMUNICATIONS COMMISSION

Notice of Public Information Collection(s) Being Reviewed by the Federal Communications Commission

August 31, 2004.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before October 14, 2004. If you anticipate that you will be submitting comments, but find it difficult to do so within the period of time allowed by this notice, you should advise the contact listed below as soon as possible.

ADDRESSES: Direct all comments regarding this Paperwork Reduction Act submission to Judith B. Herman, Federal Communications Commission, Room 1-C804, 445 12th Street, SW., DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0972.

Title: Multi-Association Group (MAG) Plan for Regulation of Interstate Services of Non-Price Cap Incumbent Local Exchange Carriers and Interexchange Carriers.

Form Nos.: FCC Forms 507, 508 and 509.

Type of Review: Revision of a currently approved collection.

Respondents: Business or other for-profit and not-for-profit institutions.

Number of Respondents: 1,300 respondents; 5,200 responses.

Estimated Time Per Response: 1-90 hours.

Frequency of Response: Annual, quarterly, and one-time reporting requirements and third party disclosure requirement.

Total Annual Burden: 31,607 hours.

Total Annual Cost: $45,195.

Privacy Act Impact Assessment: Not applicable.

Needs and Uses: The Commission adopted and released a Report and Order in CC Docket No. 00-256 and CC Docket No. 96-45 (FCC 04-31) in which it took additional steps to provide rate-of-return carriers greater flexibility to respond to changing marketplace conditions. The Commission revised its access and universal service rules by (1) modifying the “all-or-nothing” rule to permit rate-of-return carriers to bring recently acquired price cap lines back to rate-of-return regulation; (2) granting rate-of-return carriers the authority immediately to provide geographically de-averaged transport and special access rates, subject to certain limitations; and (3) merging Long Term Support (LTS) with Interstate Common Line Support (ICLS).

OMB Control No.: 3060-XXXX.

Title: Allocation and Service Rules for the 71-76 GHz, 81-86 GHz, and 92-95 GHz Bands, WT Docket No. 02-146, Report and Order.

Form No.: Not applicable.

Type of Review: New collection.

Respondents: Business or other for-profit, not-for-profit institutions and State, local or tribal government.

Number of Respondents: 1,000.

Estimated Time Per Response: 1-3 hours.

Frequency of Response: On occasion reporting requirement, recordkeeping requirement and third party disclosure requirement.

Total Annual Burden: 10,000 hours.

Total Annual Cost: $1,800,000.

Privacy Act Impact Assessment: Not applicable.

Needs and Uses: The Commission issued a Report and Order in WT Docket No. 02-146 (FCC 03-248) in which final service rules to promote the private sector development and use of the Millimeter Wave spectrum in the 71-76 GHz, 81-86 GHz, and 92-95 GHz bands on a shared basis with Federal Government operations. These bands are essentially undeveloped and available for use in a broad range of new products and services, including high-speed, point-to-point wireless local area networks and broadband Internet access. Highly directional, “pencil-beam” signal characteristics permit systems in these bands to be engineered in close proximity to one another without causing interference. This new information collection contains reporting, recordkeeping and third party disclosure requirements subject to OMB review and approval.

Federal Communications Commission.
Marlene H. Dortch,
Secretary.

[FR Doc. 04-20704 Filed 9-13-04; 8:45 am]

BILLING CODE 6712-01-P